DEPARTMENT OF AGRICULTURE

Natural Resources Conservation Service

South Dakota; Field Office Technical Guide, Change

AGENCY: USDA, Natural Resources Conservation Service.

ACTION: Notice of availability of proposed changes to conservation practice standards in Section IV of the Field Office Technical Guide (FOTG) of NRCS in South Dakota for review and comment.

SUMMARY: It is the intention of NRCS in South Dakota to issue revised conservation practice standards in Section IV of the FOTG for the following practices: Conservation Crop Rotation (328); Residue Management, No Till/Strip Till (329A); Residue Management, Mulch Till (329B); and Residue Management, Ridge Till (329C).

DATES: Comments on this notice must be received on or before September 22, 2000.

ADDRESSES: All comments concerning the proposed conservation practice standards changes should be addressed to: Dean Fisher, State Conservationist, NRCS, 200 Fourth Street SW, Huron, South Dakota 57350. Copies of these standards will be made available upon written request.

Dated: August 7, 2000.
Sandra Byrd-Hughes,
Deputy State Conservationist, Natural Resources Conservation Service, Huron, South Dakota 57350.

[FR Doc. 00-21453 Filed 8-22-00; 8:45 am]

BILLING CODE 3410-16-P